DEPARTMENT OF THE INTERIOR

Office of Surface Mining Reclamation and Enforcement

[S1D1S SS08011000 SX066A0067F 178S180110; S2D2D SS08011000 SX066A00 33F 17XS501520; OMB Control Number 1029-0054]

Agency Information Collection Activities: Submission to the Office of Management and Budget for Review and Approval; Abandoned Mine Reclamation Funds

AGENCY: Office of Surface Mining Reclamation and Enforcement, Interior.

ACTION: Notice of information collection; request for comment.

SUMMARY: In accordance with the Paperwork Reduction Act of 1995, we, the Office of Surface Mining Reclamation and Enforcement (OSMRE) are proposing to renew an information collection with revisions relating to abandoned mine reclamation funds.

DATES: Interested persons are invited to submit comments on or before January 16, 2018.

ADDRESSES: Send written comments on this information collection request (ICR) to the Office of Management and Budget's Desk Officer for the Department of the Interior by email at OIRA_Submission@omb.eop.gov; or via facsimile to (202) 395-5806. Please provide a copy of your comments to John Trelease, Office of Surface Mining Reclamation and Enforcement, 1849 C. Street NW, Mail Stop 4559, Washington, DC 20240; or by email to jtrelease@osmre.gov. Please reference OMB Control Number 1029-0054 in the subject line of your comments.

FOR FURTHER INFORMATION CONTACT: To request additional information about this ICR, contact John Trelease by email at jtrelease@osmre.gov, or by telephone at (202) 208-2783. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provides the requested data in the desired format.

A Federal Register notice with a 60-day public comment period soliciting comments on this collection of information was published on August 16, 2017 (82 FR 38931). No comments were received.

We are again soliciting comments on the proposed ICR that is described below. We are especially interested in public comment addressing the following issues: (1) Is the collection necessary to the proper functions of OSMRE; (2) is the estimate of burden accurate; (3) how might OSMRE enhance the quality, utility, and clarity of the information to be collected; and (4) how might OSMRE minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Title: 30 CFR part 872—Abandoned Mine Reclamation Funds.

OMB Control Number: 1029-0054.

Summary: 30 CFR part 872 establishes a procedure whereby States and Indian tribes submit written statements announcing the State/Tribe's decision not to submit reclamation plans, and therefore, will not be granted AML funds. Additional information is provided to OSMRE by state reclamation agencies to determine eligibility of economic development projects requesting Treasury Funds allocated to the AML Pilot Program.

Bureau Form Number: None.

Type of Review: Revision of a currently approved collection.

Respondents/Affected Public: State and Tribal abandoned mine land reclamation agencies; and businesses and non-profit organizations.

Total Estimated Number of Annual Respondents: One State or Tribal AML reclamation agency which may submit a notification to cease their AML program; approximately 54 AML Pilot Project applicants, and 6 State AML Pilot Coordinators processing 9 projects each.

Total Estimated Number of Annual Responses: 109.

Estimated Completion Time per Response: One hour for AML reclamation agencies to prepare written statements to cease their AML program; 85 hours for AML Pilot Project applicants, and 155 hours for State AML Pilot Coordinators to review each application.

Total Estimated Number of Annual Burden Hours: 12,961 hours.

Respondent's Obligation: Required to Obtain or Retain a Benefit.

Frequency of Collection: One time.

Total Estimated Annual Nonhour Burden Cost: $0.

An agency may not conduct or sponsor and a person is not required to respond to a collection of information unless it displays a currently valid OMB control number.

The authority for this action is the Paperwork Reduction Act of 1995 (44 U.S.C. 3501 et seq.).

Dated: October 25, 2017.
John A. Trelease,
Acting Chief, Division of Regulatory Support.

[FR Doc. 2017-26931 Filed 12-13-17; 8:45 am]

BILLING CODE 4310-05-P